INTERNATIONAL TRADE COMMISSION

[Investigation No. 337-TA-1410]

Certain Disposable Vaporizer Devices; Designation of Temporary Relief Proceedings as More Complicated

AGENCY: U.S. International Trade Commission.

ACTION: Notice.

SUMMARY: Notice is hereby given that the presiding administrative law judge (“ALJ”) has designated temporary relief proceedings in the above-captioned investigation as “more complicated.”

FOR FURTHER INFORMATION CONTACT: Cathy Chen, Office of the General Counsel, U.S. International Trade Commission, 500 E Street SW, Washington, DC 20436, telephone 202-205-2392. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on July 22, 2024, based on a complaint filed on behalf of RAI Strategic Holdings, Inc.; R.J. Reynolds Vapor Company; R.J. Reynolds Tobacco Company; and RAI Services Company (collectively, “Complainants”), all of Winston-Salem, North Carolina. 89 FR 59158 (Jul. 22, 2024). The complaint, as supplemented, alleges violations of section 337 of the Tariff Act of 1930, as amended, 19 U.S.C. 1337, in the importation into the United States, the sale for importation, and the sale within the United States after importation of certain disposable vaporizer devices and components thereof by reason of the infringement of certain claims of U.S. Patent No. 11,925,202 (“the '202 patent”). The complaint further alleges that an industry in the United States exists as required by the applicable Federal Statute. The Commission's notice of investigation names thirty-five (35) respondents. Id. at 59159-160.

Complainants filed a motion for temporary relief concurrently with the complaint, requesting that the Commission issue a temporary exclusion order and temporary cease and desist orders prohibiting the importation into and the sale within the United States after importation of certain disposable vaporizer devices and components thereof during the course of the Commission's investigation. The motion for temporary relief was provisionally accepted and referred to the presiding administrative law judge (“ALJ”) for investigation. Id. at 59159.

On July 26, 2024, the ALJ issued Order No. 6, designating the temporary relief proceeding as “more complicated” pursuant to Commission Rule 210.60, on the basis of the complexity of the issues raised in Complainants' motion for temporary relief. See Order No. 6 at 3 (Jul. 26, 2024).

The authority for the Commission's determination is contained in section 337 of the Tariff Act of 1930, as amended, 19 U.S.C. 1337, and in Part 210 of the Commission's Rules of Practice and Procedure, 19 CFR part 210.

By order of the Commission.
Issued: July 29, 2024.
Lisa Barton,
Secretary to the Commission.

[FR Doc. 2024-16999 Filed 7-31-24; 8:45 am]

BILLING CODE 7020-02-P